DEPARTMENT OF TRANSPORTATION

Coast Guard

33 CFR Part 162

[CGD 09-00-010]

RIN 2115-AG01

Inland Waterways Navigation Regulations; Ports and Waterways Safety

AGENCY: Coast Guard, DOT.

ACTION: Direct final rule; request for comments.

SUMMARY: By this direct final rule, the Coast Guard is removing an inland waterway navigation regulation that sets time limit requirements and requires Captain of the Port approval before using the Portage River and Lily Pond Harbor in Michigan as harbors of refuge. The elimination of this rule is necessary because Portage River and Lily Pond Harbor are no longer used as harbors of safe refugee.

DATES: This rule is effective on December 4, 2000, unless a written adverse comment, or written notice of intent to submit an adverse comment, reaches Marine Safety Office Duluth by November 6, 2000. If an adverse comment, or notice of intent to submit an adverse comment, is received, the Coast Guard will withdraw this direct final rule and publish a timely notice of withdrawal in the Federal Register. Comments must be received on or before November 6, 2000.

ADDRESSES: Comments may be mailed to the United States Coast Guard, Marine Safety Office Duluth, 600 South Lake Avenue, Duluth, Minnesota 55802, or may be delivered to the same address between 8 a.m. and 3 p.m., Monday through Friday, except Federal holidays.

The Marine Safety Office Duluth maintains the public docket for this rulemaking. Comments will become part of this docket and will be available for inspection or copying at Marine Safety Office Duluth, 600 South Lake Avenue, Duluth, Minnesota, between 8 a.m. and 3 p.m., Monday through Friday, except Federal holidays.

FOR FURTHER INFORMATION CONTACT: For questions on this rule, contact Lieutenant Randy Wagner, United States Coast Guard, Marine Safety Office Duluth, Minnesota telephone (218) 720-5286.

SUPPLEMENTARY INFORMATION:

Request for Comments

The Coast Guard encourages interested persons to participate in this rulemaking by submitting written data, views or arguments for or against this rule. Persons submitting comments should include names and addresses, identify the rulemaking [CGD09-00-010] and the specific section of this rule to which each comment applies, and give the reason(s) for each comment. Please submit all comments and attachments in an unbound format, no larger than 8½ by 11 inches, suitable for copying and electronic filing to the address under ADDRESSES. Persons wanting acknowledgement of receipt of comments should enclose a stamped, self-addressed postcards or envelopes.

Regulatory Information

The Coast Guard is publishing a direct final rule, the procedures of which are outlined in 33 CFR 1.05-55, because no adverse comments are anticipated. If no adverse comment or any written notice of intent to submit an adverse comment is received within the specified comment period, this rule will become effective as stated in the DATES section. In that case, approximately 30 days before the effective date, the Coast Guard will publish a document in the Federal Register stating that no adverse comment was received and confirming that this rule will become effective as scheduled. However, if the Coast Guard receives a written adverse comment or written notice of intent to submit adverse comment, the Coast Guard will publish a document in the Federal Register announcing withdrawal of all or part of this direct final rule. If an adverse comment applies to only part of this rule (e.g. an amendment, a section or a paragraph) and it is possible to remove that part without defeating the purpose of the rule, the Coast Guard may adopt as final those parts of this rule on which no adverse comment was received. The part of this rule that was the subject of an adverse comment will be withdrawn. If the Coast Guard decides to proceed with a rulemaking following receipt of an adverse comment, the Coast Guard will publish a separate Notice of Proposed Rulemaking (NPRM) and provide a new opportunity for comment.

A comment is considered “adverse” if the comment explains why this rule would be inappropriate, including a challenge to the rule's underlying premise or approach, or would be ineffective or unacceptable without a change.

Background and Purpose

The Coast Guard is removing an inland waterway navigation regulation that sets time limit requirements and requires Captain of the Port approval before using the Portage River and Lily Pond Harbor in Michigan as harbors of refuge. The elimination of this rule is necessary because Portage River and Lily Pond Harbor are no longer used as harbors of safe refugee. This change is being made to reduce the regulatory burden the Coast Guard imposes on the shipping community.

It has been years since lake traffic has used the locations addressed as Harbors of Safe Refuge to escape rough weather. In fact, only one lake vessel in current operation is small enough to moor at either location. The property is owned and maintained by the Army Corps of Engineers (ACOE) and the will continue to maintain and use them for storage of their operational materials. This recommendation came from information provided by the ACOE's Area Engineer, the ACOE District office, Lake Carriers Association, and the Great Lakes Navigation Committee.

Discussion of Rules

The Coast Guard is removing an inland waterway navigation regulation that sets time limit requirements and requires Captain of the Port approval before using the Portage River and Lily Pond Harbor in Michigan as harbors of refuge. The elimination of this rule is necessary because Portage River and Lily Pond Harbor are no longer used as harbors of safe refugee. This change is being made to eliminate the need for Captain of the Port approval, thereby reducing the regulatory burden the Coast Guard imposes on the shipping community.

The rule in 162.115(b) is no longer applicable, because the condition of neither harbor allows a vessel with a draft of more than 10 feet to enter. It has been years since lake traffic has used the locations addressed as Harbors of Safe Refuge to escape rough weather. In fact, only one lake vessel in current operation is small enough to moor at either location. The property is owned and maintained by the Army Corps of Engineers (ACOE) and they will continue to maintain and use them for storage of their operational materials. This recommendation came from information provided by the ACOE's Area Engineer, the ACOE District office, Lake Carriers Association, and the Great Lakes Navigation Committee.

The designation of these locations as Harbors of Safe Refuge will still remain in Coast Pilot 6 and on the navigation charts, but the time limit and reporting requirement should be removed from the regulation. Therefore, the Coast Guard is removing 165.211 (b).

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040, February 26, l979). The Coast Guard expects the economic impact of this rule to be so minimal that a full Regulatory Evaluation under paragraph 10e of the regulatory policies and procedures of DOT is unnecessary. This regulatory change imposes no burdens on the public, because it eliminates the need for vessels to obtain federal grant approval before seeking refuge in adverse weather in Portage River harbor or Lily Pond harbor.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

This rule simply eliminates the need for a vessel to obtain federal grant approval before seeking refuge from adverse weather in two Lake Superior ports. It imposes no cost to any small entity. Therefore, the Coast Guard certifies under 5 U.S.C 605(b) that this rule will not have a significant economic impact on a substantial number of small entities.

Collection of Information

This rule calls for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

The Coast Guard considered the environmental impact of this rule and concluded that, under figure 2-1, paragraph (34)(g), of Commandant Instruction M16475.lC, this rule is categorically excluded from further environmental documentation because it disestablishes a regulated navigation area. A “Categorical Exclusion Determination” is not required.

List of Subjects in 33 CFR Part 162

Navigation (water), Waterways.

For the reasons discussed in the preamble, the Coast Guard amends 33 CFR part 162.115 as follows:

PART 162—[AMENDED]

1. The authority citation for Part 162 continues to read as follows:

Authority: 33 U.S.C. 1231; 50 U.S.C. 191; 49 CFR 1.46.

§ 162.115 [REVISED]

2. Section 162.115 is amended by removing paragraph (b) and removing the designator to paragraph (a).

Dated: August 18, 2000.
G.S. Cope,
Captain, U.S. Coast Guard, Acting Commander, Ninth Coast Guard District.

[FR Doc. 00-22567 Filed 9-1-00; 8:45 am]

BILLING CODE 4910-15-U